DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2010, there were seven applications approved. This notice also includes information on one application, approved in May 2010, inadvertently left off the May 2010 notice. Additionally, 13 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Norfolk Airport Authority, Norfolk, Virginia.

Application Number: 10-02-C-00-ORF.

Application Type: Impose and use a PFC.

PFC Level: $4.50.

Total PFC Revenue Approved in This Decision: $37,450,521.

Earliest Charge Effective Date: September 1, 2010.

Estimated Charge Expiration Date: September 1, 2015.

Class of Air Carriers Not Required To Collect PFCs: Air taxi/commercial operators filing FAA Form 1800-31.

Determination: Approved. Based on information contained in the public agency's application, the FAA has determined that the proposed class accounts for less than 1 percent of the total annual enplanements at Norfolk International Airport.

Brief Description of Project Approved for Collection and Use: PFC consulting services.

Brief Description of Project Partially Approved for Collection and Use:Arrivals terminal.

Determination: Partially approved. The FAA determined that several spaces shown in the terminal floor plan schematics, were not for public use and, therefore, were not approved for use of PFC revenue. The total amount of space identified as ineligible was 6,435 square feet. As a result, the FAA approved 72.5 percent of the project cost rather than the 76.3 percent requested by the public agency.

Brief Description of Withdrawn Projects:

Blast barrier.

Land acquisition.

Access control.

Electrical vault relocation.

Relocate fire station.

Radio controls, runway end identifier lights and precision approach path indicator systems.

By-pass taxiway and hold apron.

Master plan update.

Airfield signage.

Upgrade aircraft rescue and firefighting training facility.

Acquire aircraft rescue and firefighting vehicles.

Snow removal equipment.

Pavement management plan.

Apron lighting.

Rehabilitate runway 5/23.

Relocate airport beacon.

Navigational aids—runway 5/23.

Environmental impact statement, 5R123L.

Preliminary engineering, access road security fence.

Construct perimeter access road.

Security related mandates.

Concourse A and B.

Overlay taxiway C and connectors.

Engineer/design airfield signage.

Rehabilitate taxiway A and general aviation ramp.

Date of withdrawal: April 23, 2010.

Decision Date: May 28, 2010.

FOR FURTHER INFORMATION CONTACT: Jeffrey Breedon, Washington Airports District Office, (703) 661-1363.

Public Agency: Border Coast Regional Airport Authority, Crescent City, California.

Application Number: 10-04-C-00-CEC.

Application Type: Impose and use a PFC.

PFC Level: $4.50.

Total PFC Revenue Approved in This Decision: $96,221.

Earliest Charge Effective Date: July 1, 2013.

Estimated Charge Expiration Date: July 1, 2018.

Class of Air Carriers Not Required To Collect PFCs: Nonscheduled/on demand air carriers filing FAA Form 1800-31.

Determination: Approved. Based on information contained in the public agency's application, the FAA has determined that the proposed class accounts for less than 1 percent of the total annual enplanements at Jack McNamara Field.

Brief Description of Projects Approved for Collection and Use:

Installation of security fencing, phase IV.

Rehabilitate runways 11/29 and 17/35.

Environmental assessment/environmental impact report for runway safety area improvements.

Preliminary engineering support for the environmental assessment/environmental impact report of the runway safety area improvements.

Wildlife hazard management plan.

Cultural resource consultation and environmental documentations.

Decision Date: July 13, 2010.

FOR FURTHER INFORMATION CONTACT: Gretchen Kelly, San Francisco Airports District Office, (650) 876-2778, extension 623.

Public Agency: City of Billings Aviation and Transit Department, Billings, Montana.

Application Number: 10-06-C-00-BIL.

Application Type: Impose and use a PFC.

PFC Level: $3.00.

Total PFC Revenue Approved in This Decision: $2,856,620.

Earliest Charge Effective Date: October 1, 2010.

Estimated Charge Expiration Date: July 1, 2013.

Class of Air Carriers Not Required To Collect PFCs: None.

Brief Description of Projects Approved for Collection and Use:

Reconstruct Gate B-4 aircraft parking apron.

Acquire handicap passenger lift device.

Reconstruct general aviation ramps.

Acquire emergency response unit.

Rehabilitate general aviation east—north apron.

Construct new vehicle service road east.

Decision Date: July 15, 2010.

FOR FURTHER INFORMATION CONTACT: Dave Stelling, Helena Airports District Office, (406) 449-5257.

Public Agency: County of San Joaquin, Stockton, California.

Application Number: 10-04-C-00-SCK.

Application Type: Impose and use a PFC.

PFC Level: $4.50.

Total PFC Revenue Approved in This Decision: $266,523.

Earliest Charge Effective Date: September 1, 2010.

Estimated Charge Expiration Date: September 1, 2011.

Class of Air Carriers Not Required To Collect PFCs: Nonscheduled/on demand air carriers filing FAA Form 1800-31.

Determination: Approved. Based on information contained in the public agency's application, the FAA has determined that the proposed class accounts for less than 1 percent of the total annual enplanements at Stockton Metropolitan Airport.

Brief Description of Projects Approved for Collection and Use:

Master plan study update.

Rehabilitate runway 11 RJ29L.

Rehabilitate general aviation apron, phases I and II.

Design terminal holdroom modifications.

Aircraft rescue and firefighting station modifications.

Rehabilitate taxiways H and J.

Decision Date: July 16, 2010.

FOR FURTHER INFORMATION CONTACT: Gretchen Kelly, San Francisco Airports District Office, (650) 876-2778, extension 623.

Public Agency: County and City of Yakima, Washington.

Application Number: 10-13-C-00-YKM.

Application Type: Impose and use a PFC.

PFC Level: $4.50.

Total PFC Revenue Approved in This Decision: $178,995.

Earliest Charge Effective Date: April 1, 2011.

Estimated Charge Expiration Date: August 1, 2012.

Class of Air Carriers Not Required To Collect PFCs: Nonscheduled/on demand air carriers filing FAA Form 1800-31.

Determination: Approved. Based on information contained in the public agency's application, the FAA has determined that the proposed class accounts for less than 1 percent of the total annual enplanements at Yakima Air Terminal/McAllister Field.

Brief Description of Projects Approved for Collection and Use:

Taxiway centerline marking.

Runway 9/27 rehabilitation (design).

Runway 9/27 rehabilitation (construction).

Master plan update.

Decision Date: July 16, 2010.

FOR FURTHER INFORMATION CONTACT: Trang Tran, Seattle Airports District Office, (425) 227-1662.

Public Agency: City of Pocatello, Idaho.

Application Number: 10-06-C-00-PIH.

Application Type: Impose and use a PFC.

PFC Level: $4.50.

Total PFC Revenue Approved in This Decision: $465,250.

Earliest Charge Effective Date: June 1, 2011.

Estimated Charge Expiration Date: December 1, 2016.

Class of Air Carriers Not Required To Collect PFCs: Nonscheduled/on demand air carriers filing FAA Form 1800-31.

Determination: Approved. Based on information contained in the public agency's application, the FAA has determined that the proposed class accounts for less than 1 percent of the total annual enplanements at Pocatello Regional Airport.

Brief Description of Projects Approved for Collection and Use:

Master plan update.

Purchase snow removal equipment.

Security enhancements.

Rehabilitate runway 17/35.

Purchase aircraft rescue and firefighting vehicle.

PFC administration costs.

Decision Date: July 21, 2010.

FOR FURTHER INFORMATION CONTACT: Trang Iran, Seattle Airports District Office, (425) 227-1662.

Public Agency: County of Wicomico, Salisbury, Maryland.

Application Number: 10-03-C-00-SBY.

Application Type: Impose and use a PFC.

PFC Level: $4.50.

Total PFC Revenue Approved in This Decision: $783,269.

Earliest Charge Effective Date: June 1, 2012.

Estimated Charge Expiration Date: June 1, 2015.

Class of Air Carriers Not Required To Collect PFCs: Air carriers required to file FAA Form 1800-31.

Determination: Approved. Based on information contained in the public agency's application, the FAA has determined that the proposed class accounts for less than 1 percent of the total annual enplanements at Salisbury—Ocean City, Wicomico Regional Airport.

Brief Description of Projects Approved for Collection and Use:

Remove obstructions, runway 5/23.

Extend runway 14/3 1 construction phase 1.

Construct airport rotating beacon.

Develop PFC application.

Extend runway 14/32 construction phase 2.

Rehabilitate north taxiway C apron.

Refurbish and acquire snow removal equipment.

Rehabilitate taxiway E (design).

Rehabilitate runway 5/23 (design).

Rehabilitate taxiway E (construction).

Rehabilitate runway 5/23 (construction).

Airport master plan update.

Decision Date: July 21, 2010.

For Further Information Contact: Jeffrey Breedon, Washington Airports District Office, (703) 661-1363.

Public Agency: Palm Beach Board of County Commissioners, West Palm Beach, Florida.

Application Number: 10-1 1-C-00-PBI.

Application Type: Impose and use a PFC.

PFC Level: $4.50.

Total PFC Revenue Approved in This Decision: $32,909,846.

Earliest Charge Effective Date: September 1, 2010.

Estimated Charge Expiration Date: May 1, 2013.

Class of Air Carriers Not Required To Collect PFCs: Air taxi/commercial operators filing FAA Form 1800-31.

Determination: Approved. Based on information contained in the public agency's application, the FAA has determined that the proposed class accounts for less than 1 percent of the total annual enplanements at Palm Beach International Airport (PBI).

Brief Description of Projects Approved for Collection at PBI and Use at PBI at a $4.50 PFC Level:

Construct taxiway exit C4 and shoulders.

Runway 1OL/28R rehabilitation.

Taxiway A rehabilitation.

Runway 14/32 safety area improvements; engineered materials arresting system.

Brief Description of Projects Approved for Collection at PBI and Use at PBI at a $3.00 PFC Level:

Baggage system improvements—design and construction, phase 1.

Airfield lighting control and monitoring system.

Terminal flooring improvements.

Terminal roof improvements.

PFC implementation and administrative costs.

Brief Description of Withdrawn Project: West side access road.

Date of Withdrawal: July 20, 2010.

Decision Date: July 22, 2010.

For Further Information Contact: Susan Moore, Orlando Airports District Office, (407) 812-6331.

Amendments to PFC Approvals
Amendment No., city, State | Amendment approved date | Original approved net PFC revenue | Amended approved net PFC revenue | Original estimated charge exp. date | Amended estimated charge exp. date
01-01-C-01-SHD, Weyers Cave, VA | 06/28/10 | $207,875 | $87,482 | 12/01/06 | 12/01/06
03-03-C-02-RAP, Rapid City, SD | 06/30/10 | 2,256,111 | 2,219,809 | 05/01/07 | 05/01/07
03-06-C-04-DSM, Des Moines, IA | 07/07/10 | 11,700,000 | 11,732,977 | 04/01/08 | 04/01/08
02-02-C-03-AVL, Asheville, NC | 07/07/10 | 4,936,653 | 4,916,517 | 11/01/06 | 11/01/06
00-02-I-02-HXD, Hilton Head, SC | 07/07/10 | 2,076,657 | 1,380,509 | 10/01/07 | 10/01/07
00-03-U-01-HXD, Hilton Head, SC | 07/07/10 | NA | NA | 10/01/07 | 10/01/07
01-02-C-03-HVN, New Haven, CT | 07/20/10 | 572,848 | 567,286 | 07/01/05 | 07/01/05
06-03-C-03-HVN, New Haven, CT | 07/20/10 | 805,753 | 780,834 | 05/01/09 | 05/01/09
05-02-C-02-SBY, Salisbury, MD | 07/21/10 | 1,386,715 | 921,866 | 06/01/12 | 06/01/12
08-17-C-01-BDL, Windsor Locks, CT | 07/26/10 | 11,260,335 | 11,357,591 | 07/01/21 | 07/01/21
94-02-C-01-ACV, Arcata, CA | 07/27/10 | 369,500 | 503,521 | 11/01/96 | 11/01/96
96-03-C-01-ACV, Arcata, CA | 07/27/10 | 225,258 | 263,779 | 11/01/97 | 11/01/97
03-05-C-01-ACV, Arcata, CA | 07/27/10 | 93,000 | 95,412 | 07/01/03 | 07/01/03

Issued in Washington, DC, on August 10, 2010.
Joe Hebert,
Manager, Financial Analysis and Passenger Facility Charge Branch.

[FR Doc. 2010-20228 Filed 8-17-10; 8:45 am]

BILLING CODE 4910-13-M